DEPARTMENT OF HEALTH AND HUMAN SERVICES

Food and Drug Administration

[Docket No. 02D-0407]

Diagnostic X-Ray Field Size; Revocation of Compliance Policy Guide 7133.17; Correction

AGENCY: Food and Drug Administration, HHS.

ACTION: Notice; correction.

SUMMARY: The Food and Drug Administration is correcting a notice that appeared in the Federal Register of October 10, 2002 (67 FR 63108). The document revoked the compliance policy guide entitled “Sec. 398.475 Minimum X-Ray Field Size for Spot-Film Operation of Fluoroscopic Systems with Fixed SID and Without Stepless Adjustment of the Field Size (CPG 7133.17).” The document was published with an inadvertent error. This document corrects that error.

FOR FURTHER INFORMATION CONTACT: Joyce Strong, Office of Policy (HF-27), Food and Drug Administration, 5600 Fishers Lane, Rockville, MD 20857, 301-827-7010.

SUPPLEMENTARY INFORMATION: In FR Doc. 02-25881, appearing on page 63108 in the Federal Register of Thursday, October 10, 2002, the following correction is made:

1. On page 63108, in the third column, at the end of the document, the phrase “Dated: October 1, 2022” is corrected to read “Dated: October 1, 2002”.

Dated: October 25, 2002.
John M. Taylor,
Senior Associate Commissioner for Regulatory Affairs.

[FR Doc. 02-27886 Filed 10-31-02; 8:45 am]

BILLING CODE 4160-01-S